DEPARTMENT OF AGRICULTURE

Animal and Plant Health Inspection Service

9 CFR Parts 53, 71, 91, 93, 94, 95, 98, and 104

[Docket No. APHIS-2017-0070]

Rinderpest; Update of Communicable Animal Disease Provisions

AGENCY: Animal and Plant Health Inspection Service, USDA.

ACTION: Final rule.

SUMMARY: We are amending the regulations concerning communicable diseases of livestock and poultry, interstate transportation and importation of animals (including poultry) and animal products, and permits for biological products to remove references to the animal disease rinderpest. This action reflects recognition by the Animal and Plant Health Inspection Service that rinderpest has been eradicated worldwide, and removes restrictions that are no longer necessary due to eradication of the disease. This action better aligns our regulations with World Organization for Animal Health guidelines for international trade as they pertain to rinderpest.

DATES: Effective April 11, 2018.

FOR FURTHER INFORMATION CONTACT: Dr. Ingrid Kotowski, Regionalization Evaluation Services, National Import Export Services, Veterinary Services, APHIS, 920 Main Campus Drive, Suite 200, Raleigh, NC 27606; (919) 855-7732; email: Ingrid.Kotowski@aphis.usda.gov.

SUPPLEMENTARY INFORMATION:

Background

The regulations in 9 CFR chapter I, subchapters B through E (referred to below as the regulations) govern, among other things, cooperative control and eradication of livestock and poultry diseases, importation and interstate transportation of animals (including poultry) and animal products, and permits for biological products. Rinderpest, a communicable animal disease, is referenced in various places throughout the regulations. Because rinderpest has been eradicated worldwide, the Animal and Plant Health Inspection Service (APHIS) is removing references to rinderpest where they occur in the regulations, except for regulations pertaining to select agents and toxins. This action will remove restrictions that are no longer necessary due to eradication of the disease, and will better align APHIS regulations with World Organization for Animal Health (OIE) guidelines for international trade as they pertain to rinderpest. This rule does not change the regulations or requirements associated with other animal diseases, nor does it make any substantive changes to the regulations.

Reference Removal

Part 53 of the regulations pertains to State and Federal cooperative control of certain communicable diseases of livestock or poultry. This rule will remove the word “rinderpest” from the title of part 53, and amends the definition of disease in § 53.1 to remove the reference to rinderpest. In part 71, which specifies general provisions regarding the interstate transportation of animals (including poultry) and animal products, we are amending a paragraph in § 71.3 to remove rinderpest from a list of animal diseases affecting the interstate movement of livestock or poultry.

Subchapter D (parts 91 through 99), which pertains to the exportation and importation of animals (including poultry) and animal products, contains the majority of references to rinderpest that this rule will remove. In part 93, references to rinderpest will be removed from §§ 93.404, 93.405, 93.504, and 93.505, which specify requirements for import permits and health certificates. Part 94, which concerns prohibited and restricted importations, will be amended to remove the word “rinderpest” from its title, as well as from §§ 94.1 through 94.4, 94.11, 94.16, and 94.17. Part 95 pertains to sanitary control of animal byproducts (except casings), and hay and straw, offered for entry into the United States. This rule amends the definition of approved chlorinating equipment in § 95.1 to remove its reference to rinderpest, and makes similar editorial adjustments to remove references to rinderpest in §§ 95.3, 95.16 through 95.21, 95.23, 95.25 through 95.28, 95.32, 95.34, and 95.37.

In part 98, which concerns the importation of certain animal embryos and animal semen, references to rinderpest will be removed from regulations in §§ 98.3, 98.12, 98.13, 98.15, 98.16, and 98.34, as well as from the titles of subparts A and B. We note that, consistent with the removal of rinderpest-related references from APHIS animal import regulations, APHIS will no longer display its web-based list of regions that APHIS has declared free from rinderpest.

Finally, part 104 of the regulations specifies requirements for permits for biological products. In § 104.2, we are removing the reference to rinderpest from a list of exotic diseases that, when present in a country, precludes the issuance of permits for biological products from that country. We are making an additional nonsubstantive change to correct a typographical error in § 104.2(b) by adding a comma and space between the words “influenza” and “swine” in that section.

Miscellaneous Changes

We are updating the authority citations for part 91 and part 94 in this document to reflect U.S. Code citations that have been repealed or redesignated. In the authority citation for part 91, 46 U.S.C. 3901 and 3902 will be removed; in the authority citation for part 94, 7 U.S.C. 450 will be redesignated as 7 U.S.C. 1633.

Effective Date

This rule relates to internal agency management and makes various nonsubstantive changes to the regulations in 9 CFR to reflect the worldwide eradication of the animal disease rinderpest. Because the changes contained in this rule are nonsubstantive in nature, notice and other public procedure on this rule are unnecessary and contrary to the public interest. Therefore, pursuant to 5 U.S.C. 553, notice of proposed rulemaking and opportunity to comment are not required, and this rule may be made effective less than 30 days after publication in the Federal Register. Further, since this rule relates to internal agency management, it is exempt from the provisions of Executive Orders 12866, 12988, and 13771. Finally, this action is not a rule as defined by the Regulatory Flexibility Act (5 U.S.C. 501) and, thus, is exempt from the provisions of that Act.

Executive Order 12372

This program/activity is listed in the Catalog of Federal Domestic Assistance under No. 10.025 and is subject to Executive Order 12372, which requires intergovernmental consultation with State and local officials. (See 2 CFR chapter IV.)

Paperwork Reduction Act

This final rule contains no new reporting, recordkeeping, or third party disclosure requirements under the Paperwork Reduction Act of 1995 (44 U.S.C. 3501 et seq.).

List of Subjects

9 CFR Part 53

Animal diseases, Indemnity payments, Livestock, Poultry and poultry products.

9 CFR Part 71

Animal diseases, Livestock, Poultry and poultry products, Quarantine, Reporting and recordkeeping requirements, Transportation.

9 CFR Part 91

Animal diseases, Animal welfare, Exports, Livestock, Reporting and recordkeeping requirements, Transportation.

9 CFR Part 93

Animal diseases, Imports, Livestock, Poultry and poultry products, Reporting and recordkeeping requirements.

9 CFR Part 94

Animal diseases, Imports, Livestock, Meat and meat products, Milk, Poultry and poultry products, Reporting and recordkeeping requirements.

9 CFR Part 95

Animal feeds, Hay, Imports, Livestock, Reporting and recordkeeping requirements, Straw, Transportation.

9 CFR Part 98

Animal diseases, Imports.

9 CFR Part 104

Animal biologics, Imports, Reporting and recordkeeping requirements, Transportation.

Accordingly, we are amending 9 CFR parts 53, 71, 91, 93, 94, 95, 98, and 104 as follows:

PART 53—FOOT-AND-MOUTH DISEASE, PLEUROPNEUMONIA, AND CERTAIN OTHER COMMUNICABLE DISEASES OF LIVESTOCK OR POULTRY

1. The authority citation for part 53 continues to read as follows:

Authority: 7 U.S.C. 8301-8317; 7 CFR 2.22, 2.80, and 371.4.

2. The heading of part 53 is revised to read as set forth above.

3. In § 53.1, the definition of disease is revised to read as follows:

§ 53.1 Definitions.

* * * * *

Disease. Foot-and-mouth disease, contagious pleuropneumonia, Newcastle disease, highly pathogenic avian influenza, infectious salmon anemia, spring viremia of carp, or any other communicable disease of livestock or poultry that in the opinion of the Secretary constitutes an emergency and threatens the livestock or poultry of the United States.

* * * * *

PART 71—GENERAL PROVISIONS

4. The authority citation for part 71 continues to read as follows:

Authority: 7 U.S.C. 8301-8317; 7 CFR 2.22, 2.80, and 371.4.

§ 71.3 [Amended]

5. In § 71.3, paragraph (b) is amended by removing the word “rinderpest,”.

PART 91—EXPORTATION OF LIVE ANIMALS, HATCHING EGGS OR OTHER EMBRYONATED EGGS, ANIMAL SEMEN, ANIMAL EMBRYOS, AND GAMETES FROM THE UNITED STATES

6. The authority citation for part 91 is revised to read as follows:

Authority: 7 U.S.C. 8301-8317; 19 U.S.C. 1644a(c); 21 U.S.C. 136, 136a, and 618; 7 CFR 2.22, 2.80, and 371.4.

PART 93—IMPORTATION OF CERTAIN ANIMALS, BIRDS, FISH, AND POULTRY, AND CERTAIN ANIMAL, BIRD, AND POULTRY PRODUCTS; REQUIREMENTS FOR MEANS OF CONVEYANCE AND SHIPPING CONTAINERS

7. The authority citation for part 93 continues to read as follows:

Authority: 7 U.S.C. 1622 and 8301-8317; 21 U.S.C. 136 and 136a; 31 U.S.C. 9701; 7 CFR 2.22, 2.80, and 371.4.

§ 93.404 [Amended]

8. Section 93.404 is amended as follows:

a. In paragraph (a)(2), by removing the words “rinderpest or”;

b. In the heading for paragraph (c), by removing the words “or rinderpest”;

c. In paragraph (c) introductory text, by removing the words “or rinderpest exist” and adding the word “exists” in their place; and

d. In paragraph (c)(4), in the “Agreement for the Importation, Quarantine and Exhibition of Certain Wild Ruminants and Wild Swine”:

i. In the introductory text, by removing the words “or rinderpest”;

ii. In paragraph 1, by removing the word “rinderpest,”;

iii. In paragraph 2, by removing the words “rinderpest or”; and

iv. In paragraph 6, by removing the word “rinderpest,” both times it appears.

§ 93.405 [Amended]

9. In § 93.405, paragraph (a)(1) is amended by removing the word “rinderpest,”.

§ 93.504 [Amended]

10. Section 93.504 is amended as follows:

a. In paragraph (a)(2), by removing the words “rinderpest or”;

b. In the heading for paragraph (c), by removing the words “or rinderpest”;

c. In paragraph (c) introductory text, by removing the words “or rinderpest exist” and adding the word “exists” in their place; and

d. In paragraph (c)(4), in the “Agreement for the Importation, Quarantine and Exhibition of Certain Wild Ruminants and Wild Swine”:

i. In the introductory text, by removing the words “or rinderpest”;

ii. In paragraph 1, by removing the word “rinderpest,”;

iii. In paragraph 2, by removing the words “rinderpest or”; and

iv. In paragraph 6, by removing the word “rinderpest,” both times it appears.

§ 93.505 [Amended]

11. In § 93.505, paragraph (a) is amended by removing the word “rinderpest,”.

PART 94—FOOT-AND-MOUTH DISEASE, NEWCASTLE DISEASE, HIGHLY PATHOGENIC AVIAN INFLUENZA, AFRICAN SWINE FEVER, CLASSICAL SWINE FEVER, SWINE VESICULAR DISEASE, AND BOVINE SPONGIFORM ENCEPHALOPATHY: PROHIBITED AND RESTRICTED IMPORTATIONS

12. The authority citation for part 94 is revised to read as follows:

Authority: 7 U.S.C. 1633, 7701-7772, 7781-7786, and 8301-8317; 21 U.S.C. 136 and 136a; 31 U.S.C. 9701; 7 CFR 2.22, 2.80, and 371.4.

13. The heading of part 94 is revised to read as set forth above.

14. Section 94.1 is amended as follows:

a. By revising the section heading;

b. By revising paragraph (a) introductory text;

c. In paragraph (a)(1):

i. By removing the words “rinderpest and a list of regions APHIS has declared free of”;

ii. By removing the words “foot and mouth” and adding the words “foot-and-mouth” in their place; and

iii. By removing the word “are” immediately before the word “maintained” and adding the word “is” in its place;

d. By revising paragraph (a)(2);

e. In paragraphs (b) and (c), by removing the words “rinderpest or” each time they appear; and

f. In paragraph (d) introductory text, by removing the words “and rinderpest” and “rinderpest or”.

The revisions read as follows:

§ 94.1 Regions where foot-and-mouth disease exists; importations prohibited.

(a) APHIS considers foot-and-mouth disease to exist in all regions of the world except those declared free of the disease by APHIS.

* * * * *

(2) APHIS will add a region to the list of those it has declared free of foot-and-mouth disease after it conducts an evaluation of the region in accordance with § 92.2 of this subchapter and finds that the disease is not present. In the case of a region formerly on this list that is removed due to an outbreak, the region may be returned to the list in accordance with the procedures for reestablishment of a region's disease-free status in § 92.4 of this subchapter. APHIS will remove a region from the list of those it has declared free of foot-and-mouth disease upon determining that the disease exists in the region based on reports APHIS receives of outbreaks of the disease from veterinary officials of the exporting country, from the World Organization for Animal Health (OIE), or from other sources the Administrator determines to be reliable.

* * * * *

§ 94.2 [Amended]

15. Section 94.2 is amended by removing the words “rinderpest or” both times they appear.

§ 94.3 [Amended]

16. Section 94.3 is amended by removing the words “rinderpest or”.

17. Section 94.4 is amended by revising the section heading and by removing the words “rinderpest or” each time they appear.

The revision reads as follows:

§ 94.4 Cured or cooked meat from regions where foot-and-mouth disease exists.

* * * * *

18. Section 94.11 is amended as follows:

a. By revising paragraph (a)(1);

b. In paragraph (a)(3), by removing the words “rinderpest or”; and

c. In paragraph (c), by removing the words “rinderpest or” and “rinderpest and” each time they appear.

The revision reads as follows:

§ 94.11 Restrictions on importation of meat and other animal products from specific regions.

(a) * * *

(1) The regions listed under paragraph (a)(2) of this section have been declared free of foot-and-mouth disease by APHIS as provided in § 94.1(a) but supplement their national meat supply by the importation of fresh (chilled or frozen) meat of ruminants or swine from regions that APHIS considers to be affected with foot-and-mouth disease as provided in § 94.1(a); or have a common land border with regions considered to be affected with foot-and-mouth disease; or import ruminants or swine from regions considered to be affected with foot-and-mouth disease under conditions less restrictive than would be acceptable for importation into the United States. Thus, the meat may be commingled with the fresh (chilled or frozen) meat of animals from an affected region, resulting in an undue risk of introducing foot-and-mouth disease into the United States.

* * * * *

§ 94.16 [Amended]

19. Section 94.16 is amended as follows:

a. In paragraph (b) introductory text, by removing the words “rinderpest or”;

b. In paragraph (c) introductory text, by removing the words “rinderpest and” and by removing the word “either” and adding the word “the” in its place; and

c. In paragraph (d), by removing the words “rinderpest and” and “rinderpest or” each time they appear.

20. Section 94.17 is amended as follows:

a. By revising the section heading;

b. In paragraphs (b) and (c), by removing the word “rinderpest,”; and

c. By revising paragraph (m)(1).

The revisions read as follows:

§ 94.17 Dry-cured pork products from regions where foot-and-mouth disease, African swine fever, classical swine fever, or swine vesicular disease exists.

* * * * *

(m) * * *

(1) The ham, if it is an Italian-type ham processed in accordance with paragraph (i)(1) of this section, was processed in a region which has submitted, through its veterinary services, to the Administrator, a written statement stating that it conducts a program to authorize persons to supervise activities specified under this section;

* * * * *

PART 95—SANITARY CONTROL OF ANIMAL BYPRODUCTS (EXCEPT CASINGS), AND HAY AND STRAW, OFFERED FOR ENTRY INTO THE UNITED STATES

21. The authority for part 95 continues to read as follows:

Authority: 7 U.S.C. 8301-8317; 21 U.S.C. 136 and 136a; 31 U.S.C. 9701; 7 CFR 2.22, 2.80, and 371.4.

22. In § 95.1, the definition of approved chlorinating equipment is revised to read as follows:

§ 95.1 Definitions.

* * * * *

Approved chlorinating equipment means equipment approved by Veterinary Services as efficient for the disinfection of effluents against the contagion of foot-and-mouth disease.

* * * * *

23. Section 95.3 is revised to read as follows:

§ 95.3 Byproducts from diseased animals prohibited.

The importation of any animal byproduct taken or removed from an animal affected with anthrax, foot-and-mouth disease, highly pathogenic avian influenza, or Newcastle disease is prohibited.

§ 95.16 [Amended]

24. Section 95.16 is amended as follows:

a. In paragraph (a)(1), by removing the words “rinderpest and” and “, rinderpest,”; and

b. In paragraph (a)(3)(ii), by removing the comma after the word “anthrax” and adding the word “and” in its place and by removing the words “, and rinderpest”.

§ 95.17 [Amended]

25. In § 95.17, paragraph (c) is amended by removing the word “rinderpest,”.

26. Section 95.18 is amended as follows:

a. In paragraph (a), by removing the words “or rinderpest”; and

b. By revising paragraph (c).

The revision reads as follows:

§ 95.18 Wool, hair, and bristles; requirements for unrestricted entry.

* * * * *

(c) Wool, hair, or bristles taken from sheep, goats, cattle, or swine, when such animals have been slaughtered under national government inspection in a region ³ and in an abattoir in which is maintained an inspection service determined by the Secretary of Agriculture to be adequate to assure that such materials have been removed from animals found at time of slaughter to be free from anthrax and foot-and-mouth disease, and to assure further the identity of such materials until loaded upon the transporting vessel, may be imported without other restriction if accompanied by a certificate bearing the seal of the proper department of said national government and signed by an official veterinary inspector of such region showing that the therein described wool, hair, or bristles were taken from animals slaughtered in such specified abattoir and found free from anthrax and foot-and-mouth disease.

³ See footnote 2 in § 95.16.

* * * * *

§ 95.19 [Amended]

27. In § 95.19, paragraph (c) is amended by removing the words “and rinderpest”.

28. Section 95.20 is amended as follows:

a. In paragraph (a), by removing the words “or rinderpest”; and

b. By revising paragraph (c).

The revision reads as follows:

§ 95.20 Glue stock; requirements for unrestricted entry.

* * * * *

(c) Glue stock taken from cattle, sheep, goats, or swine slaughtered under national government inspection in a region ⁴ and in an abattoir in which is maintained an inspection service determined by the Secretary of Agriculture to be adequate to assure that such materials have been removed from animals found at time of slaughter to be free from anthrax and foot-and-mouth disease, and to assure further the identity of such materials until loaded upon the transporting vessel, may be imported without other restriction if accompanied by a certificate bearing the seal of the proper department of said national government and signed by an official veterinary inspector of such region showing that the therein described glue stock was taken from animals slaughtered in such specified abattoir and found free from anthrax and foot-and-mouth disease.

⁴ See footnote 2 in § 95.16.

* * * * *

§ 95.21 [Amended]

29. In § 95.21, paragraph (c) is amended by removing the words “and rinderpest”.

§ 95.23 [Amended]

30. In § 95.23, paragraph (c) is amended by removing the word “rinderpest,”.

§ 95.25 [Amended]

31. In § 95.25, paragraph (a) is amended by removing the words “or rinderpest”.

§ 95.26 [Amended]

32. Section 95.26 is amended by removing the words “or rinderpest”.

§ 95.27 [Amended]

33. In § 95.27, paragraph (c) is amended by removing the words “and rinderpest”.

§ 95.28 [Amended]

34. Section 95.28 is amended by removing the words “or rinderpest”.

§ 95.32 [Amended]

35. Section 95.32 is amended by removing the words “or rinderpest”.

§ 95.34 [Amended]

36. Section 95.34 is amended as follows:

a. In the introductory text, by removing the words “rinderpest or”; and

b. In paragraph (c), by removing the words “and rinderpest”.

§ 95.37 [Amended]

37. Section 95.37 is amended as follows:

a. In paragraph (c) introductory text, by removing the words “and rinderpest”; and

b. In paragraph (d), by removing the words “rinder-pest or”.

PART 98—IMPORTATION OF CERTAIN ANIMAL EMBRYOS AND ANIMAL SEMEN

38. The authority citation for part 98 continues to read as follows:

Authority: 7 U.S.C. 1622 and 8301-8317; 21 U.S.C. 136 and 136a; 31 U.S.C. 9701; 7 CFR 2.22, 2.80, and 371.4.

39. The heading for subpart A is revised to read as follows:

Subpart A—Ruminant and Swine Embryos From Regions Free of Foot-and-Mouth Disease; and Embryos of Horses and Asses

§ 98.3 [Amended]

40. In § 98.3, the introductory text is amended by removing the words “rinderpest and”.

41. The heading for subpart B is revised to read as follows:

Subpart B—Ruminant and Swine Embryos From Regions Where Foot-and-Mouth Disease Exists

§ 98.12 [Amended]

42. In § 98.12, paragraph (a) is amended by removing the words “rinderpest or”.

§ 98.13 [Amended]

43. In § 98.13, paragraph (a) is amended by removing the words “or rinderpest”.

§ 98.15 [Amended]

44. Section 98.15 is amended as follows:

a. In the introductory text, by removing the words “rinderpest or”;

b. In paragraphs (a)(1)(i) and (ii) and (a)(2)(i) and (ii), by removing the word “rinderpest,”;

c. In paragraph (a)(3), by removing the words “either rinderpest or”; and

d. In paragraphs (a)(5)(ii)(A) and (B), (a)(7)(i)(A) and (B), and (a)(8)(i)(A) and (B), by removing the word “rinderpest,”.

§ 98.16 [Amended]

45. In § 98.16, the introductory text is amended by removing the words “rinderpest or”.

46. Section 98.34 is amended as follows:

a. In paragraph (a)(2), by removing the words “or rinderpest”;

b. In the heading and introductory text of paragraph (c), by removing the words “rinderpest or”;

c. By revising paragraph (c)(1)(i);

d. In paragraph (c)(1)(ii), by removing the words “rinderpest or” both times they appear;

e. In paragraph (c)(1)(iii), by removing the word “rinderpest,”;

f. In paragraphs (c)(1)(v) and (c)(5) and (6), by removing the words “rinderpest or”; and

g. In paragraph (c)(7), by removing the word “rinderpest,”.

The revision reads as follows:

§ 98.34 Import permits for poultry semen and animal semen.

* * * * *

(c) * * *

(1) * * *

(i) The donor animal shall have been inspected on the farm of origin or on another premises (the inspection may be on another premises only if a veterinarian of the Department has traced the donor animal back to its farm of origin) by a veterinarian of the United States Department of Agriculture who, in cooperation with the veterinary service of the region of origin of the donor animal, shall have determined, insofar as possible, that the donor animal was never infected with foot-and-mouth disease; that the donor animal was never on a farm or other premises where foot-and-mouth disease then existed; that the donor animal has not been on a premises that had an animal that was susceptible to the virus of foot-and-mouth disease and that was exposed to the disease during the 12 months immediately prior to the date of inspection of the donor animal; that the donor animal, if a swine, has never been vaccinated against foot-and-mouth disease; and that the donor animal was free from evidence of other communicable disease;

* * * * *

PART 104—PERMITS FOR BIOLOGICAL PRODUCTS

47. The authority for part 104 continues to read as follows:

Authority: 21 U.S.C. 151-159; 7 CFR 2.22, 2.80, and 371.4.

48. Section 104.2 is amended by revising paragraph (b) to read as follows:

§ 104.2 Permit authorized.

* * * * *

(b) A permit shall not be issued for a biological product from countries known to have exotic diseases, including but not limited to foot-and-mouth disease, highly pathogenic avian influenza, swine vesicular disease, Newcastle disease, and African swine fever, if in the opinion of the Administrator, such products may endanger the livestock or poultry of this country.

* * * * *

Done in Washington, DC, this 4th day of April 2018.
Kevin Shea,
Administrator, Animal and Plant Health Inspection Service.

[FR Doc. 2018-07232 Filed 4-10-18; 8:45 am]

BILLING CODE 3410-34-P